DEPARTMENT OF TRANSPORTATION

National Highway Traffic Safety Administration

[Docket No. NHTSA-98-4548; Notice 2]

Denial of Petition for Import Eligibility Decision

This notice sets forth the reasons for the denial of a petition submitted to the National Highway Traffic Safety Administration (NHTSA) under 49 U.S.C. § 30141(a)(1)(A). The petition, which was submitted by G&K Automotive Conversion, Inc. of Santa Ana, California (“G&K”), a registered importer of motor vehicles, requested NHTSA to decide that certain 1989-1991 Volkswagen Golf 4-Door Sedans that were not originally manufactured to comply with all applicable Federal motor vehicle safety standards are eligible for importation into the United States. In the petition, G&K contended that these vehicles are eligible for importation on the basis that (1) they are substantially similar to vehicles that were originally manufactured for importation into and sale in the United States and that were certified by their manufacturer as complying with the safety standards (the U.S. certified version of the 1989-1991 Volkswagen Golf 4-Door Sedan), and (2) they are capable of being readily altered to conform to the standards.

NHTSA published a notice in the Federal Register on October 26, 1998 (63 FR 57158) that contained a thorough description of the petition, and solicited public comments upon it. One comment was received in response to the notice, from Volkswagen of America, Inc. (“Volkswagen”), the United States representative of Volkswagen AG, the vehicle's manufacturer. In this comment, Volkswagen contended that the vehicles that are the subject of the petition are four-wheel drive vehicles which are not substantially similar to the Golf 4-Door Sedan with four-wheel drive that was originally manufactured and certified for sale in the United States and that these vehicles are not capable of being readily altered to conform to the standards. Specifically, Volkswagen observed that the non-U.S. certified 1989-1991 Volkswagen Golf 4-Door Sedans with four-wheel drive that are the subject of the petition are heavier than the heaviest Golf model certified for sale in the United States, have a different four wheel drive configuration, and approximately 100mm of additional ground clearance. As a consequence, Volkswagen asserted that crash testing would be required to assure that the non-U.S. certified 1989-1991 Volkswagen Golf 4-Door Sedans comply with Federal Motor Vehicle Safety Standard Nos. 203, Impact Protection for the Driver from the Steering Control System, 204 Steering Control Rearward Displacement, 208 Occupant Crash Protection, 212 Windshield Mounting, 219 Windshield Zone Intrusion, and 301 Fuel System Integrity.

Additionally, Volkswagen contended that the 1989-1991 Volkswagen Golf 4-Door Sedans produced in Germany for the European market would not comply with the Bumper Standard found at 49 CFR Part 581 because those vehicles have greater ground clearance than their U.S.-certified counterparts, and are equipped with front bumper mounted “bull bars” not found on U.S.-certified models. Volkswagen asserted that these features would affect the vehicles' bumper and crash test performance.

Volkswagen also observed that 1989-1991 Volkswagen Golf 4-Door Sedans produced in Germany for the European market are equipped with headlamps and signaling lamps that would not comply with Standard No. 108 Lamps, Reflective Devices, and Associated Equipment, and would also require modification, including the installation of a center high mounted stop lamp, to comply with that standard.

Volkswagen further stated that a passive shoulder belt system would have to be installed on the non-U.S. certified 1989-1991 Volkswagen Golf 4-Door Sedans to comply with Standard No. 208 Occupant Crash Protection. Volkswagen noted that the installation of such a system would require the attachment of anchorages in the tunnel area and on the front door and the attachment and welding of reinforcements to the B-pillar. Volkswagen also noted that a knee bar would have to be installed on the instrument panel for compliance with the passive restraint crash test requirements.

Volkswagen also asserted that the non-U.S. certified 1989-1991 Volkswagen Golf 4-Door Sedans would not comply with Standard No. 212 Windshield Mounting because only clips were used for mounting the windshield on these vehicles, as opposed to the adhesive bonding method that was employed in the U.S. certified versions. Volkswagen further observed that the non-U.S. certified 1989-1991 Volkswagen Golf 4-Door Sedans did not have the door beam structure that is necessary for compliance with Standard No. 214. Additionally, Volkswagen stated that the vehicles were manufactured with some foam seat parts that were not treated with flame resistant agents to comply with Standard No. 302.

G&K did not respond to Volkswagen's comments even though NHTSA accorded it an opportunity to do so. In light of the issues that Volkswagen has raised regarding the lack of substantial similarity between non-U.S. certified 1989-1991 Volkswagen Golf 4-Door Sedans and the U.S.-certified versions of those vehicles, NHTSA has concluded that the petitioner has failed to demonstrate that non-U.S. certified 1989-1991 Volkswagen Golf 4-Door Sedans are (1) substantially similar to a motor vehicle originally manufactured for importation into and sale in the United States and certified under 49 U.S.C. § 30115 and (2) are capable of being readily altered to comply with all applicable Federal motor vehicle safety standards. The petition must therefore be denied under 49 CFR 593.7(e).

In accordance with 49 U.S.C. § 30141(b)(1), NHTSA will not consider a new import eligibility petition covering these vehicles until at least three months from the date of this notice.

Authority: 49 U.S.C. 30141(a)(1)(A) and (b)(1); 49 CFR 593.7; delegations of authority at 49 CFR 1.50 and 501.8.

Issued on: August 2, 2000.
Marilynne Jacobs,
Director, Office of Vehicle Safety Compliance.

[FR Doc. 00-19921 Filed 8-4-00; 8:45 am]

BILLING CODE 4910-59-P